DEPARTMENT OF COMMERCE

National Oceanic and Atmospheric Administration

50 CFR Part 648

[Docket No. 060209031-6031-01; I.D. 020606C]

RIN 0648-AU09

Fisheries of the Northeastern United States; Northeast Multispecies Fishery; Emergency Secretarial Action; Correction

AGENCY: National Marine Fisheries Service (NMFS), National Oceanic and Atmospheric Administration (NOAA), Commerce.

ACTION: Proposed rule; emergency action; correction.

SUMMARY: On March 3, 2006, a proposed rule to implement an emergency action for the Northeast (NE) Multispecies Fishery Management Plan(FMP) was published in the Federal Register. The proposed rule was published with an incorrect end date for receipt of public comments. This document corrects that error.

FOR FURTHER INFORMATION CONTACT: Douglas W. Christel, Fishery Policy Analyst, (978) 281-9141, fax (978) 281-9135.

SUPPLEMENTARY INFORMATION: On March 3, 2006 (71 FR 11060), a proposed rule was published that would implement measures intended to immediately reduce the fishing mortality rate (F) on specific groundfish species, include differential days-at-sea (DAS) counting, reduce trip limits for specific species and recreational possession restrictions, continue two programs that would otherwise expire by the end of the 2005 fishing year on April 30, 2006, and implement other provisions. Due to confusion over the date the proposed rule was to be filed for public inspection at the Office of the Federal Register, the proposed rule was published with an incorrect comment period end date.

Correction

In the proposed rule FR Doc. 06-1911, in the issue of Friday, March 6, 2006 (71 FR 11060), make the following correction.

On page 11060, in column 2, the DATES section is corrected to read “DATES: Comments must be received on or before March 9, 2006.”

Dated: March 7, 2006.
James W. Balsiger,
Acting Assistant Administrator for Regulatory Programs, National Marine Fisheries Service.

[FR Doc. E6-3524 Filed 3-10-06; 8:45 am]

BILLING CODE 3510-22-S